FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments received are subject to public disclosure. In general, comments received will be made available without change and will not be modified to remove personal or business information including confidential, contact, or other identifying information. Comments should not include any information such as confidential information that would not be appropriate for public disclosure.

Comments regarding each of these applications must be received at the Reserve Bank indicated or the offices of the Board of Governors, Benjamin W. McDonough, Deputy Secretary of the Board, 20th Street and Constitution Avenue NW, Washington DC 20551-0001, not later than January 6, 2026.

A. Federal Reserve Bank of Kansas City (Jeffrey Imgarten, Assistant Vice President) 1 Memorial Drive, Kansas City, Missouri 64198-0001. Comments can also be sent electronically to KCApplicationComments@kc.frb.org:

1. CMJ Equity, LLC, Morrison, Colorado; Caitlin Whitham 2017A Trust, Morrison, Colorado, Caitlin Whitham, Denver, Colorado, and Peter Page, Lamar, Colorado as co-trustees; Morgan Whitham 2017A Trust, Morrison, Colorado, Morgan Whitham, Morrison, Colorado, and Peter Page as co-trustees; Jacqueline Whitham 2017A Trust, Morrison, Colorado, Jacqueline Whitham, Boulder, Colorado, and Peter Page as co-trustees; to join the Whitham Family Control Group, a group acting in concert, to acquire voting shares of Whitcorp Financial Company, Leoti, Kansas, and thereby indirectly acquire voting shares of Western State Bank, Garden City, Kansas, and Frontier Bank, Lamar, Colorado.

Board of Governors of the Federal Reserve System.
Michele Taylor Fennell,
Associate Secretary of the Board.

[FR Doc. 2025-23580 Filed 12-19-25; 8:45 am]

BILLING CODE 6210-01-P